DEPARTMENT OF ENERGY

Office of Environmental Management

Notice of Preferred Sodium Bearing Waste Treatment Technology

AGENCY: Office of Environmental Management, U.S. Department of Energy.

ACTION: Extension of time for comments.

SUMMARY: In response to a public request, the Department of Energy (DOE) announces an extension of time to submit comments on the preferred technology announced August 3, 2005 in the Federal Register Notice of Preferred Sodium Bearing Waste Treatment Technology (70 FR 44598) to September 21, 2005.

ADDRESSES: Comments on the preferred technology may be submitted to Richard Kimmel, Document Manager, U.S. Department of Energy, Idaho Operations Office, 1955 North Fremont, MS-1222, Idaho Falls, Idaho, 83415 or via e-mail at Richard.Kimmel@nuclear.energy.gov.

DOE will consider any comments transmitted or postmarked by September 21, 2005 before issuing a Record of Decision on the Idaho High-Level Waste and Facilities Disposition Environmental Impact Statement. Comments submitted after this date will be considered to the extent practicable.

FOR FURTHER INFORMATION CONTACT: Requests for further information on the preferred technology should be addressed to: Richard Kimmel, Document Manager, U.S. Department of Energy, Idaho Operations Office, 1955 North Fremont, MS-1222, Idaho Falls, Idaho, 83415, Telephone (208) 526-5583, or via email at Richard.Kimmel@nuclear.energy.gov.

For further information on DOE's National Environmental Policy Act (NEPA) process, please contact: Carol M. Borgstrom, Director, Office of NEPA Policy and Compliance (EH-42), U.S. Department of Energy, 1000 Independence Avenue, SW., Washington, DC 20585, Telephone: (202) 586-4600, or leave a message at (800) 472-2756.

SUPPLEMENTARY INFORMATION:

Background

On August 3, 2005, the DOE published a Notice of Preferred Sodium Bearing Waste Treatment Technology (70 FR 44598) which announced that comments on the preferred treatment technology should be submitted no later than 30-days from the date of publication of the notice. DOE is extending the time allowed for submittal of comments to September 21, 2005.

Issued in Washington DC, August 18, 2005.
Steven Frank,
Office of Environmental Management, NEPA Compliance Office.

[FR Doc. 05-16674 Filed 8-22-05; 8:45 am]

BILLING CODE 6450-01-P